CORPORATION FOR NATIONAL AND COMMUNITY SERVICE

Agency Information Collection Activities; Submission to the Office of Management and Budget for Review and Approval; Comment Request; AmeriCorps Seniors Programs COVID Effects Evaluation

AGENCY: Corporation for National and Community Service.

ACTION: Notice of information collection; request for comment.

SUMMARY: The Corporation for National and Community Service, operating as AmeriCorps, has submitted a public information collection request (ICR) entitled AmeriCorps Seniors Programs COVID Effects Evaluation for review and approval in accordance with the Paperwork Reduction Act.

DATES: Written comments must be submitted to the individual and office listed in the ADDRESSES section by April 4, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Melissa Gouge, at 202-676-376736 or by email to mgouge@americorps.gov.

SUPPLEMENTARY INFORMATION: The OMB is particularly interested in comments which:

• Evaluate whether the proposed collection of information is necessary for the proper performance of the functions of AmeriCorps, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day notice requesting public comment was published in the Federal Register on September 7, 2023 at 88 FR 61574. The comment period ended November 6, 2023. No public comments were received from that Notice.

Title of Collection: AmeriCorps Seniors Programs COVID Effects Evaluation.

OMB Control Number: 3045-NEW.

Type of Review: New.

Respondents/Affected Public: Individuals.

Total Estimated Number of Annual Responses: 5,048 hours.

Total Estimated Number of Annual Burden Hours: 2,394.

Abstract: The purpose of this new information collection is to gather data for a national evaluation to assess how AmeriCorps Seniors programs have changed since COVID-19, and the impact of the programmatic changes in service delivery have on AmeriCorps Seniors volunteers and communities served by the programs.

Mary Hyde,
Director, Office of Research and Evaluation.

[FR Doc. 2024-04603 Filed 3-4-24; 8:45 am]

BILLING CODE 6050-28-P